DEPARTMENT OF LABOR

Employment and Training Administration

[TA-W-53,893]

Johnston Industries, Inc., Dewitt, IA; Notice of Termination of Investigation

Pursuant to section 221 of the Trade Act of 1974, as amended, an investigation was initiated on December 29, 2003 in response to a petition filed on behalf of workers at Johnston Industries, Inc., DeWitt, Iowa.

The petitioning group of workers is covered by an active certification issued on January 15, 2004 (TA-W-53,723C) which remains in effect. Consequently, further investigation in this case would serve no purpose, and the investigation has been terminated.

Signed at Washington, DC, this 3rd day of February 2004.
Richard Church,
Certifying Officer, Division of Trade Adjustment Assistance.

[FR Doc. 04-3567 Filed 2-18-04; 8:45 am]

BILLING CODE 4510-30-P